DEPARTMENT OF AGRICULTURE

Forest Service

Canyon Lake Dam and Wyant Lake Dam Project, Darby Ranger District, Bitterroot National Forest, Ravalli County, Montana

AGENCY: Forest Service, USDA.

ACTION: Notice; intent to prepare environmental impact statement.

SUMMARY: The Forest Service will prepare an environmental impact statement to disclose the effects of a proposal by Canyon Creek Irrigation District to rehabilitate Canyon and Wyant Dams. The proponents request helicopter use to airlift equipment and materials to the dam sites. The proposed rehabilitation would utilize “on site” material sources. The Canyon Lake Dam and Wyant Lake Dam are located approximately eight miles due west of Hamilton, Montana within the Selway-Bitterroot Wilderness, Bitterroot National Forest. The dams are located in T.6 N., R. 22 W., Sec. 27.

The purpose and need for the project stems from the Canyon Creek Irrigation District's existing rights and obligations to operate and maintain Canyon and Wyant Dams to meet current State and Federal Dam Safety Standards and pertinent laws and regulations governing the proponent's use and the protection of National Forest System lands.

Construction may start in August of 2002 for the Canyon Lake Dam and August 2003 for the Wyant Lake Dam. The construction period would be late summer and fall.

This project level EIS will tier to the Bitterroot National Forest Plan and Final EIS (September 1987) which provides overall guidance of all land management activities on the Bitterroot National Forest, the Region One Wilderness Dam Policy (June 1992), and the Selway-Bitterroot Wilderness General Management Direction (1992 Update).

DATES: Written comments and suggestions concerning the scope of the analysis should be received on or before July 18, 2001.

ADDRESSES: Send written comments to Frank V. Guzman, Rangeland Management Specialist, Sula Ranger District, Bitterroot National Forest, 7338 Hwy. 93 S., Sula, Montana 59871.

FOR FURTHER INFORMATION CONTACT: Elizabeth Ballard, EIS Team Leader, Phone: (406) 777-5461.

SUPPLEMENTARY INFORMATION: The Forest Service objective is to reasonably regulate the proponent's easement in order to achieve the purposes for which the National Forests were reserved and the Selway-Bitterroot Wilderness was designated.

The Forest Service will consider a range of alternatives. One of these will be the “no action” alternative, in which none of the proposed activities would be implemented. Additional alternatives will examine varying levels of the proposed activities to achieve the proposal's purposes as well as to respond to any public issues and other resource values.

The EIS will analyze the direct, indirect, and cumulative environmental effects of the alternatives. Past, present, and reasonably foreseeable activities on both private and National Forest system lands will be considered. The EIS will disclose the analysis of site specific mitigation measures and their effectiveness.

Public participation is an important part of the analysis, commencing with the initial scoping process.

The Forest Service will be seeking information, comments and assistance from Federal, State, and local agencies and other individuals or organizations that may be interested in or affected by the proposed action. A 30-day comment period will be provided immediately following publication of this notice. In addition, the public is encouraged to visit with Forest Service Officials at any time during the analysis and prior to the decision. The Forest Service has not scheduled public meetings at this time.

Comments from the public and other agencies will be used in preparation of the Draft EIS. The scoping process will be used to:

1. Identify potential issues.

2. Identify major issues to be analyzed in depth.

3. Eliminate minor issues or those that have been covered by a relevant previous environmental analysis, such as the Bitterroot Forest Plan EIS.

4. Identify alternatives to the proposed action.

5. Identify potential environmental effects of the proposed action and alternatives (i.e. direct, indirect and cumulative effects).

6. Determine potential cooperating agencies and task assignments.

Preliminary issues that have been identified include:

1. Public safety and protection of property.

2. Wilderness resource and recreation.

3. Water storage.

4. Social and economic costs and benefits.

5. General environmental concerns.

Any required permits or licenses will be obtained prior to implementation of the project.

The United States Forest Service, Bitterroot National Forest is the lead agency.

The responsible official for this environmental impact statement is Rodd Richardson, Forest Supervisor, Bitterroot National Forest. Address for Forest Supervisor is Bitterroot National Forest, 1801 N. First St., Hamilton, MT 59840.

The Draft EIS is expected to be filed with the Environmental Protection Agency (EPA) and available for public review in march 2002. At that time the EPA will publish a Notice of Availability of the Draft EIS in the Federal Register. The comment period on the Draft EIS will be 45 days from the date the EPA's notice of availability appears in the Federal Register. The Final EIS is scheduled to be completed by June 2002. The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40CFr 1503.3 in addressing these points.).

Dated: June 11, 2001.
Rodd Richardson,
Forest Supervisor.

[FR Doc. 01-15207 Filed 6-15-01; 8:45 am]

BILLING CODE 3410-11-M